DEPARTMENT OF HOMELAND SECURITY

Federal Emergency Management Agency

[Docket ID FEMA-2017-0002; Internal Agency Docket No. FEMA-B-1730]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: June 16, 2017.
Roy E. Wright,
Deputy Associate Administrator for Insurance and Mitigation, Department of Homeland Security, Federal Emergency Management Agency.

State and county | Location and case No. | Chief executive officer of community | Community map repository | Online location of letter of map revision | Effective date of modification | Community No.
Arizona: Greenlee | Unincorporated Areas of Greenlee County (17-09-0131P) | The Honorable David Gomez, Chairman, Board of Supervisors, Greenlee County, P.O. Box 908, Clifton, AZ 85533 | Greenlee County, Planning and Zoning Department, 253 5th Street, Clifton, AZ 85533 | http://www. msc.fema.gov/lomc | Sep. 14, 2017 | 040110
California:
Riverside | City of Wildomar (17-09-0430P) | The Honorable Timothy Walker, Mayor, City of Wildomar, 23873 Clinton Keith Road, Suite 201, Wildomar, CA 92595 | City Hall, 23873 Clinton Keith Road, Suite 201, Wildomar, CA 92595 | http://www. msc.fema.gov/lomc | Sep. 15, 2017 | 060221
Riverside | Unincorporated Areas of Riverside County (17-09-0232P) | The Honorable John F. Tavaglione, Chairman, Board of Supervisors, Riverside County, 4080 Lemon Street, 5th Floor, Riverside, CA 92501 | Riverside County Flood Control and Water Conservation District, 1995 Market Street, Riverside, CA 92502 | http://www. msc.fema.gov/lomc | Sep. 8, 2017 | 060245
Hawaii:
Honolulu | City and County of Honolulu, (16-09-2530P) | The Honorable Kirk Caldwell, Mayor, City of Honolulu, 530 South King Street, Room 300, Honolulu, HI 96813 | Department of Planning and Permitting, 650 South King Street, Honolulu, HI 96813 | http://www. msc.fema.gov/lomc | Sep. 8, 2017 | 150001
Maui | Maui County (17-09-0740P) | The Honorable Alan M. Arakawa, Mayor, Maui County, 200 South High Street, Kalana O Maui Building, 9th Floor, Wailuku, HI 96793 | County of Maui Planning Department, 2200 Main Street, Suite 335, Wailuku, HI 96793 | http://www. msc.fema.gov/lomc | Sep. 8, 2017 | 150003
Indiana: Marion | City of Indianapolis (17-05-1432P) | The Honorable Joe Hogsett, Mayor, City of Indianapolis, 2501 City-County Building, 200 East Washington Street, Indianapolis, IN 46204 | City Hall, 1200 Madison Avenue, Suite 100, Indianapolis, IN 46225 | http://www. msc.fema.gov/lomc | Sep.12, 2017 | 180159
Kansas: Johnson | City of Overland Park (17-07-0741P) | The Honorable Carl Gerlach, Mayor, City of Overland Park, City Hall, 8500 Santa Fe Drive, Overland Park, KS 66212 | City Hall, 8500 Santa Fe Drive, Overland Park, KS 66212 | http://www. msc.fema.gov/lomc | Sep. 5, 2017 | 200174
Michigan: Macomb | Charter Township of Clinton (17-05-2484P) | Mr. Robert J. Cannon, Supervisor, Charter Township of Clinton, 40700 Romeo Plank Road, Clinton Township, MI 48038 | City Hall, 40700 Romeo Plank Road, Clinton Township, MI 48038 | http://www. msc.fema.gov/lomc | Sep. 14, 2017 | 260121
Missouri: St. Louis | City of Maryland Heights (17-07-0909P) | The Honorable Michael Moeller, Mayor, City of Maryland Heights, 11911 Dorsett Road, Maryland Heights, MO 63043 | Maryland Heights Government Center, 11911 Dorsett Road, Maryland Heights, MO 63043 | http://www. msc.fema.gov/lomc | Sep. 15, 2017 | 290889
South Carolina: Spartanburg | Unincorporated Areas of Spartanburg County (17-04-2662P) | Ms. Katherine L. O'Neill, County Administrator, Spartanburg County, Administration Building, 366 North Church Street, Spartanburg, SC 29303 | Spartanburg County Administration Building, 366 North Church Street, Spartanburg, SC 29303 | http://www. msc.fema.gov/lomc | Sep. 19, 2017 | 450176
Wisconsin:
Kenosha | Village of Pleasant Prairie (17-05-1426P) | Mr. John P. Steinbrink, Village President, Village of Pleasant Prairie, Village Hall, 9915 39th Avenue, Pleasant Prairie, WI 53158 | Village Hall, 9915 39th Avenue, Pleasant Prairie, WI 53158 | http://www. msc.fema.gov/lomc | Sep. 12, 2017 | 550613
Waukesha | Village of Sussex (17-05-0249P) | Mr. Jeremy Smith, Village Administrator, Village of Sussex, N64W23760 Main Street, Sussex, WI 53089 | Village Hall, N64W23760 Main Street, Sussex, WI 53089 | http://www. msc.fema.gov/lomc | Aug. 25, 2017 | 550490

[FR Doc. 2017-15175 Filed 7-18-17; 8:45 am]

BILLING CODE 9110-12-P